DEPARTMENT OF LABOR

Employment and Training Administration

Post-Initial Determinations Regarding Eligibility To Apply for Trade Adjustment Assistance

In accordance with Sections 223 and 284 (19 U.S.C. 2273 and 2395) of the Trade Act of 1974 (19 U.S.C. 2271, et seq.) (“Act”), as amended, the Department of Labor herein presents Notice of Affirmative Determinations Regarding Application for Reconsideration, summaries of Negative Determinations Regarding Applications for Reconsideration, summaries of Revised Certifications of Eligibility, summaries of Revised Determinations (after Affirmative Determination Regarding Application for Reconsideration), summaries of Negative Determinations (after Affirmative Determination Regarding Application for Reconsideration), summaries of Revised Determinations (on remand from the Court of International Trade), and summaries of Negative Determinations (on remand from the Court of International Trade) regarding eligibility to apply for trade adjustment assistance under Chapter 2 of the Act (“TAA”) for workers by (TA-W) number issued during the period of July 1, 2020 through July 31, 2020. Post-initial determinations are issued after a petition has been certified or denied. A post-initial determination may revise a certification, or modify or affirm a negative determination.

Affirmative Determinations Regarding Applications for Reconsideration

The following Applications for Reconsideration have been received and granted. See 29 CFR 90.18(d). The group of workers or other persons showing an interest in the proceedings may provide written submissions to show why the determination under reconsideration should or should not be modified. The submissions must be sent no later than ten days after publication in Federal Register to the Office of the Director, Office of Trade Adjustment Assistance, Employment and Training Administration, U.S. Department of Labor, Room N-5428, 200 Constitution Avenue NW, Washington, DC 20210. See 29 CFR 90.18(f).

TA-W No. | Subject firm | Location
95,251 | Daimler Trucks North America | Cleveland, NC.
95,580 | Philadelphia Energy Solutions Refining and Marketing LLC | Philadelphia, PA.

Negative Determinations Regarding Application for Reconsideration

The following determinations regarding applications for reconsideration have been received and denied. The determination complained of was not erroneous; there was not a mistake in the determination of facts previously considered; and in the opinion of the certifying officer, there was not a misinterpretation of facts or of the law justifying reconsideration of the determination. A Negative Determination Regarding Application for Reconsideration is a final determination for purposes of judicial review pursuant to section 284 of the Act (19 U.S.C. 2395) and 29 CFR 90.19(a). See 29 CFR 90.18(e).

TA-W No. | Subject firm | Location
95,777B | Cardone Industries, Inc | Arlington, TX.

Notice of Revised Certifications of Eligibility

Revised certifications of eligibility have been issued with respect to cases where affirmative determinations and certificates of eligibility were issued initially, but a minor error was discovered after the certification was issued. The revised certifications are issued pursuant to the Secretary's authority under section 223 of the Act and 29 CFR 90.16. Revised Certifications of Eligibility are final determinations for purposes of judicial review pursuant to section 284 of the Act (19 U.S.C. 2395) and 29 CFR 90.19(a).

Revised Certifications of Eligibility

The following revised certifications of eligibility to apply for TAA have been issued. The date following the company name and location of each determination references the impact date for all workers of such determination, and the reason(s) for the determination.

The following revisions have been issued.

TA-W No. | Subject firm | Location | Impact date | Reason(s)
93,737 | Ocwen Financial Corporation | Addison, TX | 4/17/2017 | Wages Reported Under Different FEIN Number.
94,053 | MasterBrand Cabinets, Inc | Auburn, AL | 8/8/2017 | Worker Group Clarification.
94,053A | Norcraft Companies L.P | Lynchburg, VA | 8/8/2017 | Worker Group Clarification.
94,934 | Kimberly-Clark Corporation | Conway, AR | 6/24/2018 | Worker Group Clarification.
95,556 | Spirit AeroSystems Inc | Wichita, KS | 1/10/2019 | Worker Group Clarification.

Revised Determinations (After Affirmative Determination Regarding Application for Reconsideration)

The following revised determinations on reconsideration, certifying eligibility to apply for TAA, have been issued. The date following the company name and location of each determination references the impact date for all workers of such determination.

The following revised determinations on reconsideration, certifying eligibility to apply for TAA, have been issued. The requirements of Section 222(b) (supplier to a firm whose workers are certified eligible to apply for TAA) of the Trade Act have been met.

TA-W No. | Subject firm | Location | Impact date
94,906 | General Motors Milford Proving Ground | Milford, MI | 6/16/2018

I hereby certify that the aforementioned determinations were issued during the period of July 1, 2020 through July 31, 2020. These determinations are available on the Department's website https://www.doleta.gov/tradeact/petitioners/taa_search_form.cfm under the searchable listing determinations or by calling the Office of Trade Adjustment Assistance toll free at 888-365-6822.

Signed at Washington, DC, this 10th day of August 2020.
Hope D. Kinglock,
Certifying Officer, Office of Trade Adjustment Assistance.

[FR Doc. 2020-18664 Filed 8-24-20; 8:45 am]

BILLING CODE 4510-FN-P